DEPARTMENT OF THE INTERIOR

National Park Service

[NPS-WASO-NRNHL-DTS#-29211; PPWOCRADI0, PCU00RP14.R50000]

National Register of Historic Places; Notification of Pending Nominations and Related Actions

AGENCY: National Park Service, Interior.

ACTION: Notice.

SUMMARY: The National Park Service is soliciting comments on the significance of properties nominated before October 26, 2019, for listing or related actions in the National Register of Historic Places.

DATES: Comments should be submitted by November 29, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 26, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Denver County

White Spot Restaurant, (Commercial Resources of the East Colfax Avenue Corridor), 601 East Colfax Ave., Denver, 09000776

GEORGIA

Bibb County

Georgia Industrial Home, 4690 North Mumford Rd., Macon, SG100004743

Glynn County

Dixville Historic District, Bounded by rear property lines along Walnut Ave., Palmetto Ave. to Prince St., Martin Luther King Jr. Blvd. & Stonewall St., Brunswick, SG100004744

Washington County

Sandersville High School, 514 North Harris St., Sandersville, SG100004745

INDIANA

Carroll County

Burlington Township No. 9 School, (Indiana's Public Common and High Schools MPS), 6013 Cty. Rd. East 600 South, Burlington, MP100004727

Dearborn County

Greendale Historic District, Roughly bounded by Gages Ln., Ridge Ave., Tanners Creek, Probasco St. & Nowlin Ave., Greendale, SG100004720

Lake County

Hansen Branch-Hammond Public Library, 2823 Martha St., 6736 Alabama Ave., Hammond, SG100004719

St. John's Lutheran Church and School, 2271 West 10th Ave., Gary, SG100004723

Marion County

Kahn Tailoring Company, 800 North Capitol Ave., Indianapolis, SG100004717

South Side Turnverein Hall, 306 Prospect St., Indianapolis, SG100004724

Massachusetts Avenue Commercial District (Boundary Increase and Decrease), Roughly bounded by one blk. to either side of Massachusetts Ave. from Delaware St. to I65, Indianapolis, BC100004725

Ladywood Estates, (Residential Planning and Development in Indiana, 1940-1973 MPS), Roughly bounded by the 5200 blk. of Emerson Way, Ladywood Dr. & the hill west of Nob Ln., Indianapolis, MP100004728

Spencer County

Hardy-Baumgaertner House, 105 Walnut St., Rockport, SG100004718

Switzerland County

Vevay Historic District, Roughly bounded by Seminary St., Market St., Arch St., Pearl St. & Main St., Vevay, SG100004722

IOWA

Johnson County

Iowa Federation Home for Colored Girls, 942 Iowa Ave., Iowa City, SG100004731

Tate Arms, 914 South Dubuque St., Iowa City, SG100004732

LOUISIANA

Orleans Parish

All Saints Church and School, 1441 Teche St., New Orleans, SG100004729

St. Charles Parish

Odd Fellows Hall, 224 Shaw St., Hahnville, SG100004730

MASSACHUSETTS

Plymouth County

Reed, H.R., House, 46 Water St., Marion, SG100004738

NEW YORK

Broome County

First Presbyterian Church of Deposit, 129 Second St., Deposit, SG100004734

Erie County

St. Matthias Episcopal Church Complex, 374 Main St., 24 Maple Rd., East Aurora, SG100004735

Schaefer and Brother Malt House, 520 Seventh St., Buffalo, SG100004737

Niagara County

Sacred Heart Roman Catholic Church Complex, 1112 South Ave., Niagara Falls, SG100004736

Otsego County

Rutherford House, 26 East St., Edmeston, SG100004733

NORTH DAKOTA

Pembina County

Icelandic Evangelical Lutheran Church, 415 Beaupre St. (AKA Adelaide St.), Pembina, SG100004714

Walsh County

Forest River State Bank, 110 Front St., Forest River, SG100004715

OKLAHOMA

Oklahoma County

Oklahoma National Guard Armory, 200 NE 23rd St., Oklahoma City, SG100004739

State Highway Department Testing Laboratory, 2311 North Central Ave., Oklahoma City, SG100004740

Iroquois Apartments, (Midtown Brick Box Apartments 1910-1935, Oklahoma City MPS), 900 NW 13th St., Oklahoma City, MP100004741

Harmony School, 1537 NE 24th St., Oklahoma City, SG100004742

VIRGINIA

Loudoun County

Willisville Historic District, 33000 & 34000 blks. of Welbourne Rd., Middleburg vicinity, SG100004746

New Kent County

New Kent Ordinary, 12000 New Kent Hwy., New Kent Courthouse, SG100004747

A request to move has been received for the following resource:

INDIANA

Allen County

Craigville Depot, Ryan Rd. & Edgerton Rd., (3 addresses presented), New Haven vicinity, MV84000181

Additional documentation has been received for the following resources:

INDIANA

Marion County

Massachusetts Avenue Commercial District, Roughly bounded by one blk. to either side of Massachusetts Ave. from Delaware St. to I 65, Indianapolis, AD82000064

Monroe County

Vinegar Hill Historic District, East First St. from Woodlawn to Jordan & South Sheridan to East Maxwell, Bloomington, AD05000195

Authority: Section 60.13 of 36 CFR part 60.

Dated: October 28, 2019.
Julie H. Ernstein,
Supervisory Archeologist, National Register of Historic Places/National Historic Landmarks Program.

[FR Doc. 2019-24683 Filed 11-13-19; 8:45 am]

BILLING CODE 4312-52-P